Proclamation 7388 of December 18, 2000

To Modify Duty-Free Treatment Under the Generalized System of Preferences for Sub-Saharan African Countries and for Other Purposes

By the President of the United States of America

A Proclamation

1. Section 506A(b)(1) of the Trade Act of 1974, as amended (the “1974 Act”) (19 U.S.C. 2466a(b)(1)), as added by section 111(a) of the African Growth and Opportunity Act (Title I of Public Law 106-200) (AGOA), authorizes the President to provide duty-free treatment under the Generalized System of Preferences (GSP) to any article described in section 503(b)(1)(B) through (G) of the 1974 Act (19 U.S.C. 2463(b)(1)(B)-(G)) that is the growth, product, or manufacture of a designated beneficiary sub-Saharan African country, if, after taking into account the advice of the United States International Trade Commission (USITC), the President determines that such article is not import-sensitive in the context of imports from beneficiary sub-Saharan African countries.

2. Proclamation 7350 of October 2, 2000, designated certain countries listed in section 107 of the AGOA as beneficiary sub-Saharan African countries.

3. Pursuant to section 506A(b)(1) of the 1974 Act, and having taken into account the advice of the USITC, I have determined that certain articles are not import-sensitive in the context of imports from beneficiary sub-Saharan African countries. I have determined to designate those articles as eligible for duty-free treatment under the GSP. I have decided to designate these articles by inserting the symbol “D” in the Rates of Duty 1-Special subcolumn of the Harmonized Tariff Schedule of the United States (HTS) for subheadings covering such articles.

4. Section 213(b)(3)(A) of the Caribbean Basin Economic Recovery Act (CBERA) (19 U.S.C. 2703(b)(3)(A)), as amended by section 211(a) of the United States-Caribbean Basin Trade Partnership Act (Title II of Public Law 106-200) (CBTPA), provides that the tariff treatment accorded at any time during the transition period defined in section 213(b)(5)(D) of the CBERA (19 U.S.C. 2703(b)(5)(D)), as amended by section 211(a) of the CBTPA, to certain articles that are originating goods of designated CBTPA beneficiary countries shall be identical to the tariff treatment that is accorded at such time under Annex 302.2 of the North American Free Trade Agreement (NAFTA) to an article described in the same 8-digit subheading of the HTS that is a good of Mexico and is imported into the United States. Such articles are described in section 213(b)(1)(B) through (F) of the CBERA (19 U.S.C. 2703(b)(1)(B)-(F)), as amended by section 211(a) of the CBTPA.

5. Proclamation 7351 of October 2, 2000, designated certain countries as CBTPA beneficiary countries and reflected in the HTS the tariff treatment provided under the CBTPA, which became effective on that date with respect to those CBTPA beneficiary countries enumerated in a Federal Register notice issued by the United States Trade Representative. The Annex to Proclamation 7351 designated certain HTS subheadings covering articles described in section 213(b)(1)(B) through (F) of the CBERA as eligible for the tariff treatment authorized by section 213(b)(3)(A) of the CBERA. Certain HTS provisions covering watches and watch parts and footwear were inadvertently omitted. I have determined that these provisions should be designated as covering articles eligible for the tariff treatment authorized by section 213(b)(3)(A) of the CBERA.

6. Proclamation 7351 incorporated into the HTS the provisions of the CBTPA concerning the tariff treatment of certain textile and apparel articles imported into the United States from designated CBTPA beneficiary countries, pursuant to section 213(b)(2) of the CBERA (19 U.S.C. 2703(b)(2)), as amended by section 211(a) of the CBTPA. I have determined that a technical error in one of the legal notes to chapter 98 of the HTS created by the Annex to that proclamation should be corrected.

7. Section 604 of the 1974 Act (19 U.S.C. 2483) authorizes the President to embody in the HTS the substance of the relevant provisions of that Act, and of other acts affecting import treatment, and actions thereunder, including the removal, modification, continuance, or imposition of any rate of duty or other import restriction.

NOW, THEREFORE, I, WILLIAM J. CLINTON, President of the United States of America, acting under the authority vested in me by the Constitution and the laws of the United States of America, including title V and section 604 of the 1974 Act, section 111 of the AGOA, section 211 of the CBTPA, and section 213 of the CBERA, do proclaim that:

(1) In order to provide duty-free treatment under the GSP to certain articles when imported from designated beneficiary sub-Saharan African countries, the HTS is modified as provided in Annex I to this proclamation.

(2) In order to accord, at any time during the transition period, to certain watches and watch parts described in section 213(b)(1)(E) of the CBERA, when such watches and watch parts are CBTPA originating goods, the identical tariff treatment that is accorded at such time under Annex 302.2 of the NAFTA to an article described in the same 8-digit subheading of the HTS that is a good of Mexico and is imported into the United States, chapter 91 of the HTS is modified as provided in Annex II to this proclamation.

(3) In order to make a technical correction in U.S. note 2(c) to subchapter XX of chapter 98 of the HTS, such note is modified as provided in Annex II to this proclamation.

(4) Any provisions of previous proclamations and Executive orders that are inconsistent with this proclamation are superseded to the extent of such inconsistency.

(5)(a) The modifications made by Annex I to this proclamation shall be effective with respect to articles entered, or withdrawn from warehouse for consumption, on or after the date of publication of this proclamation in the Federal Register.

(b) The modifications made by Annex II to this proclamation shall be effective with respect to articles entered, or withdrawn from warehouse for consumption, on or after October 2, 2000.

IN WITNESS WHEREOF, I have hereunto set my hand this eighteenth day of December, in the year of our Lord two thousand, and of the Independence of the United States of America the two hundred and twenty-fifth.

wj

Billing code 3195-01-P

[FR Doc. 00-32742

Filed 12-20-00; 8:45 am]

Billing code 3190-01-C